ENVIRONMENTAL PROTECTION AGENCY

[ER-FRL-9018-8]

Environmental Impact Statements; Notice of Availability

RESPONSIBLE AGENCY: Office of Federal Activities, General Information (202) 564-7146 or http://www.epa.gov/compliance/nepa/.

Weekly receipt of Environmental Impact Statements

Filed 12/29/2014 Through 01/02/2015

Pursuant to 40 CFR 1506.9.

Notice:

Section 309(a) of the Clean Air Act requires that EPA make public its comments on EISs issued by other Federal agencies. EPA's comment letters on EISs are available at: http://www.epa.gov/compliance/nepa/eisdata.html.

EIS No. 20140384, Draft EIS, FAA, AK, Angoon Airport Project, Comment Period Ends: 03/11/2015, Contact: Leslie Grey 907-271-5453

EIS No. 20140385, Final EIS, BLM, NV, Long Canyon Mine, Review Period Ends: 02/09/2015, Contact: Whitney Wirthlin, 775-861-6568

EIS No. 20150000, Draft Supplement, GSA, VA, USDOS Foreign Affairs Security Training Center (FASTC), Comment Period Ends: 02/23/2015, Contact: Myles Vaughan 215-756-5948

Dated: January 6, 2015.
Cliff Rader,
Director, NEPA Compliance Division, Office of Federal Activities.

[FR Doc. 2015-00172 Filed 1-8-15; 8:45 am]

BILLING CODE 6560-50-P